DEPARTMENT OF HEALTH AND HUMAN SERVICES

Centers for Disease Control and Prevention

Disease, Disability, and Injury Prevention and Control Special Emphasis Panel (SEP): Meeting

Studies at the Animal-Human Interface of Influenza and Other Zoonotic Diseases in Vietnam, Funding Opportunity Announcement (FOA) IP11-005, The Incidence and Etiology of Influenza-Associated Community-Acquired Pneumonia in Hospitalized Persons Study; FOA IP11-011, Spectrum of Respiratory Pathogens in Acute Respiratory Tract Infection Among Children and Adults in India; FOA IP11-012, Influenza Vaccine Efficacy in Tropical and Developing Countries; FOA IP11-013, Influenza and Other Respiratory Diseases in Southern Hemisphere; and FOA IP11-014, initial review.

Correction: The notice was published in the Federal Register on March 11, 2011, Volume 76, Number 48, Pages 13413-13414. The place should read as follows:

Place: Holiday Inn Decatur Conference Center, 130 Clairemont Avenue, Decatur, Georgia 30030, Telephone: (404) 371-0204.

Contact Person For More Information: Gregory Anderson, M.S., M.P.H., Scientific Review Officer, CDC, 1600 Clifton Road, NE., Mailstop E60, Atlanta, Georgia 30333, Telephone: (404) 498-2293.

The Director, Management Analysis and Services Office, has been delegated the authority to sign Federal Register notices pertaining to announcements of meetings and other committee management activities, for both the Centers for Disease Control and Prevention and the Agency for Toxic Substances and Disease Registry.

Dated: May 5, 2011.
Elaine L. Baker,
Director, Management Analysis and Services Office, Centers for Disease Control and Prevention.

[FR Doc. 2011-11522 Filed 5-10-11; 8:45 am]

BILLING CODE 4163-18-P